DEPARTMENT OF TRANSPORTATION

Office of the Secretary

Notice of Applications for Certificates of Public Convenience and Necessity and Foreign Air Carrier Permits Filed Under Subpart B (Formerly Subpart Q) During the Week Ending August 3, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-28895.

Date Filed: July 31, 2007.

Due Date for Answers, Conforming Applications, or Motion to Modify Scope: August 21, 2007.

Description: Application of Croatia Airlines, requesting a foreign air carrier permit to engage in scheduled foreign air transportation of persons, property, and mail from points behind Croatia, via Croatia and any intermediate points, to any point or points in the United States and beyond.

Docket Number: OST-2007-28919.

Date Filed: August 2, 2007.

Due Date for Answers, Conforming Applications, or Motion to Modify Scope: August 23, 2007.

Description: Application of Aeroenlaces Nacionales, S.A. de C.V. (“Vivaaerobus”), requesting a foreign air carrier permit to engage in scheduled foreign air transport of persons, property, and mail from a point or points in Mexico to a point or points in the United States, as well as such charter authority permitted under the U.S.-Mexico Air Transport Agreement.

Renee V. Wright,
Program Manager, Docket Operations, Federal Register Liaison.

[FR Doc. E7-18569 Filed 9-19-07; 8:45 am]

BILLING CODE 4910-9X-P